DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility to Apply for Trade Adjustment Assistance 10/1/2010-10/12/2010
Firm name | Address | Date accepted for investigation | Products
Absolute Automation Systems, Inc | N56 W24842 N. Corporate Circle, Sussex, WI 53089 | 10/7/2010 | The firm manufactures industrial control panels, hi-volume control panels, and machine control panels.
Electro-Mechanical Products, Inc | 1100 W. Louisiana Avenue, Denver, CO 80223 | 10/7/2010 | The firm manufactures parts of electro-mechanical industrial machinery heat exchangers and laser components.
Euro Marble & Granite, Inc | 4552 N. Ruby Street, Schiller Park, IL 60176 | 10/7/2010 | The firm manufactures cut stone and stone products such as countertops and sinks.
Gulf Coast Manufacturing, LLC | 3622 West Main Street, Gray, LA 70359 | 10/7/2010 | The firm manufactures oil and gas well service equipment for both land and offshore applications.
Jersey Shore Steel Company | 70 Maryland Street, Jersey Shore, PA 17740 | 10/7/2010 | The firm manufactures small angle steel sections for furniture and agriculture.
Nolte Precise Manufacturing, Inc | 6850 Colerain Avenue, Cincinnati, OH 45239 | 10/12/2010 | The firm manufactures custom, precision machined components typically from steel, some from plastic.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: October 12, 2010.
Miriam Kearse,
Project Coordinator, TAA for Firms.

[FR Doc. 2010-26181 Filed 10-15-10; 8:45 am]

BILLING CODE 3510-24-P